NATIONAL AERONAUTICS AND SPACE ADMINISTRATION

[Notice 02-101]

NASA Advisory Council; Meeting

AGENCY: National Aeronautics and Space Administration (NASA).

ACTION: Notice of meeting.

SUMMARY: In accordance with the Federal Advisory Committee Act, Public Law 92-463, as amended, the National Aeronautics and Space Administration announces an open meeting of the NASA Advisory Council (NAC).

DATES: Tuesday, September 10, 2002, 8 a.m. to 5 p.m; and Wednesday, September 11, 2002, 8 a.m. to 12:30 p.m.

ADDRESSES: Jet Propulsion Laboratory (JPL), NASA, Building 180, Room 101, 4800 Oak Grove Drive, Pasadena, CA 91109.

FOR FURTHER INFORMATION CONTACT: Ms. Kathy Dakon, Code IC, National Aeronautics and Space Administration, Washington, DC 20546-0001, 202/358-0732.

SUPPLEMENTARY INFORMATION: The meeting will be open to the public up to the seating capacity of the room. The agenda for the meeting is as follows:

—Response to the Research Maximization and Prioritization Task Force Report

—NASA's Integrated Research Priorities

—Overview of JPL Activities

—Overview of Mars Program

—Innovation Catalyst

—Market-Driven Commercial Research

—Students Imagine Mars Project

—Committee Reports

—Discussion of Findings and Recommendations

Due to increased security measures at the NASA Jet Propulsion Laboratory (JPL), interested members of the public including the news media must contact Helen Paley (818) 354-6427 or Cecil Brower (818) 354-6974 no later than Friday, September 6, 2002, by 12 Noon PDT to make arrangements for badging, parking and escorting while at JPL. Access to JPL will be limited to those who show proper photo identification and who have made prior arrangements to attend as stipulated herein.

It is imperative that the meeting be held on these dates to accommodate the scheduling priorities of the key participants.

Dated: August 19, 2002.
Sylvia K. Kraemer,
Acting Advisory Committee Management Officer, National Aeronautics and Space Administration.

[FR Doc. 02-21579 Filed 8-22-02; 8:45 am]

BILLING CODE 7510-01-P